Proclamation 7477 of October 3, 2001

National Breast Cancer Awareness Month, 2001

By the President of the United States of America

A Proclamation

This October, as we mark the 12th observance of National Breast Cancer Awareness Month, we renew our commitment to the struggle against breast cancer and salute the courage of Americans living with this serious disease. The effects of breast cancer have touched many of us, whether through personal diagnosis or the diagnosis of a family member or friend.

We may know someone who has survived breast cancer due to early detection and improved treatment. Unfortunately, we also know that a cure cannot come soon enough. This year, approximately 192,000 women will be diagnosed with breast cancer. By increasing awareness about the importance of early detection and accelerating the use of recent innovative advances in medical research, we can reduce the incidence of breast cancer in our Nation.

Until a cure is found, health care professionals agree that regular mammograms are essential to ensuring the early detection of breast cancer. The good news is that the message about early detection is being heard. In 1998, almost 70 percent of women age 40 and older had a mammogram in the last two years. And this year, Medicare coverage was expanded to include digital mammograms, offering women another approach for early detection.

As the primary agency in the United States for cancer research, the National Cancer Institute (NCI) leads the research efforts to find a cure for this disease. Our goal is a future free of breast cancer. We will achieve this goal by developing new treatments and therapies and by better understanding what causes breast cancer. The NCI will spend an estimated $463.8 million on breast cancer research this year. That figure will increase to an estimated $510 million next year; and overall National Institutes of Health (NIH) expenditures on breast cancer research are slated to reach $630 million for Fiscal Year 2002. My Administration supports an increase in spending for the NIH, of which NCI is a part, and has proposed that, by 2003, funding for NIH be twice what it was in 1998.

I urge all Americans at risk for breast cancer to use appropriate screenings that can detect it at its initial stages. Until we find a cure, early detection is our most essential tool in fighting this disease. Recent medical successes allow us to say that the war on breast cancer will succeed.

NOW, THEREFORE, I, GEORGE W. BUSH, President of the United States of America, by the authority vested in me by the Constitution and laws of the United States, do hereby proclaim October 2001, as National Breast Cancer Awareness Month. I call upon government officials, businesses, communities, health care professionals, educators, volunteers, and all the people of the United States to publicly reaffirm our Nation's strong and continuing commitment to controlling and curing breast cancer.

IN WITNESS WHEREOF, I have hereunto set my hand this third day of October, in the year of our Lord two thousand one, and of the Independence of the United States of America the two hundred and twenty-sixth.

B

[FR Doc. 01-25439

Filed 10-5-01; 8:45 am]

Billing code 3195-01-P